DEPARTMENT OF THE INTERIOR

National Park Service

[NPS-WASO-NAGPRA-NPS0040440; PPWOCRADN0-PCU00RP14.R50000]

Notice of Intended Repatriation: U.S. Department of the Interior, Bureau of Indian Affairs, Branch of Cultural Resources Management, Washington, DC

AGENCY: National Park Service, Interior.

ACTION: Notice.

SUMMARY: In accordance with the Native American Graves Protection and Repatriation Act (NAGPRA), the U.S. Department of the Interior, Bureau of Indian Affairs intends to repatriate certain cultural items that meet the definition of sacred objects and that have a known lineal descendant.

DATES: Repatriation of the cultural items in this notice may occur on or after July 28, 2025.

ADDRESSES: Send additional, written requests for repatriation of the cultural items in this notice to Tamara Billie, Bureau of Indian Affairs, Branch of Cultural Resources Management, 1001 Indian School Road NW, Mailbox 44, Albuquerque, NM 87104, email tamara.billie@bia.gov.

SUPPLEMENTARY INFORMATION: This notice is published as part of the National Park Service's administrative responsibilities under NAGPRA. The determinations in this notice are the sole responsibility of the Bureau of Indian Affairs, and additional information on the determinations in this notice, including the results of consultation, can be found in the summary or related records. The National Park Service is not responsible for the determinations in this notice.

Abstract of Information Available

A total of five cultural items have been requested for repatriation. The five sacred objects are three lots of ceramic material and two lots of lithic material are ceramic sherds and lithic flakes. Site LA833 is part of a large Pueblo I-II (A.D. 850-1150) community complex with scattered house units surrounding a great kiva, located within Santa Fe County on Pueblo of Pojoaque land. Archaeological investigations in 1953 and 1959 concluded, and material culture indicates, continuous cultural occupation. Based on material culture, continuity of occupation, and oral history presented by representatives of the Pueblo of Pojoaque, site LA 833 is affiliated with the present-day Pueblo of Pojoaque. Pojoaque cultural members have indicated in consultations that they hold all items used, made, or produced by their ancestors as sacred objects. There are no known hazardous substances used to treat any of these objects.

A total of 190 cultural items have been requested for repatriation. The 190 sacred objects are 14 lots of ground stone, 74 lots of lithics, 29 lots of ceramic/sherds, one lot of historic objects, three lots of unworked stone, 10 lots ceramic/vessels, 20 lots of ornamentals, eight lots of pipes, one lot of mineral, one lot of botanical, two lots of fauna, two lots of cloud blowers, three lots of ceramic objects, seven lots of organic, five lots of worked ceramic/sherds, six lots of worked stone, one lot of worked shell, one lot of unworked shell, one lot of temper, and one lot of medicine stone. The objects of cultural patrimony are represented by all these artifact types listed and include lithic flakes and tools, pottery sherds and partial vessels, manos and metate fragments, animal bone, both worked and unmodified, beads and ornamental objects, botanical materials and soil or pollen, and historic objects. Site LA835 is a Pueblo I-II (A.D. 850-1150) site that consists of a community complex with scattered house units and a great kiva located within Santa Fe County on the Pueblo of Pojoaque land. Excavations at LA 835 by a New Mexico State Highway and Transportation Department project exposed three room blocks, 10 kivas, and a great kiva. Exploratory and test trenches were dug around the three excavated units to determine the full extent of the site and to collect archaeological material to date the site. The material culture collected indicates continuous cultural occupation. Based on material culture, continuity of occupation, and oral history presented by representatives of the Pueblo of Pojoaque, site LA 835 is affiliated with the present-day Pueblo of Pojoaque. Pojoaque cultural members have indicated in consultation that they hold all items used, made, or produced by their ancestors as sacred objects. There are no known hazardous substances used to treat any of these objects.

Determinations

The Bureau of Indian Affairs has determined that:

• The 195 sacred objects described in this notice are specific objects needed by a traditional Native American religious leader for present-day adherents to practice traditional Native American religion, and have ongoing historical, traditional, or cultural importance central to the Native American group, including any constituent sub-group (such as a band, clan, lineage, ceremonial society, or other subdivision).

• There is a connection between the cultural items described in this notice and the Pueblo of Pojoaque, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 28, 2025. If competing requests for repatriation are received, the Bureau of Indian Affairs must determine the most appropriate requestor prior to repatriation. Requests for joint repatriation of the cultural items are considered a single request and not competing requests. The Bureau of Indian Affairs is responsible for sending a copy of this notice to the Indian Tribes and Native Hawaiian organizations identified in this notice and to any other consulting parties.

Authority: Native American Graves Protection and Repatriation Act, 25 U.S.C. 3004 and the implementing regulations, 43 CFR 10.9.

Dated: June 17, 2025.
Melanie O'Brien,
Manager, National NAGPRA Program.

[FR Doc. 2025-11946 Filed 6-26-25; 8:45 am]

BILLING CODE 4312-52-P